DEPARTMENT OF AGRICULTURE

Forest Service

Forestry Research Advisory Council

AGENCY: Forest Service, USDA.

ACTION: Notice of meeting.

SUMMARY: The Forestry Research Advisory Council (FRAC) will meet in Washington, DC. The Council is required by Section 1441 of the Agriculture and Food Act of 1981 to provide advice to the Secretary of Agriculture on accomplishing efficiently the purposes of the Act of October 10, 1962 (16 U.S.C. 582a, et seq.), commonly known as the McIntire-Stennis Act of 1962. The Council also provides advice relative to the Forest Service research program, authorized by the Forest and Rangeland Renewable Resources Research Act of 1978 (Pub. L. 95-307, 92 Stat. 353, as amended; 16 U.S.C. 1600 (note)). The meeting is open to the public.

DATES: The meeting will be held February 20 and 21, 2014, from 8:30 a.m. to 5:00 p.m.

ADDRESSES: The meeting will be held at the Forest Service International Programs office located at 1 Thomas Circle, Suite 400, Washington, DC. Written comments may be submitted as described under Supplementary Information. All comments, including names and addresses, when provided, are placed in the record and available for public inspection and copying. The public may inspect comments received at the USDA Forest Service—Washington Office. Visitors are encouraged to call ahead at 202-205-1665 to facilitate entry into the USDA Forest Service building.

FOR FURTHER INFORMATION CONTACT: Daina Apple, USDA Forest Service, Office of the Deputy Chief for Research and Development, by phone at 202-205-1665. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to discuss current and emerging forestry and natural resource research issues. The discussion is limited to the Forest Service, National Institute of Food and Agriculture staff and Council members; however, persons who wish to bring forestry research matters to the attention of the Council may file written statements with the Council staff before or after the meeting. Written comments concerning this meeting should be addressed to Daina Apple, Designated Federal Officer, Forestry Research Advisory Council, USDA Forest Service, Office of Research and Development, Mail Stop 1120, 1400 Independence Ave. SW., Washington, DC 20250-1120, by February 14, 2014. Comments may also be sent via fascimile to 202-205-1530.

Meeting Accommodations: If you require sign language interpreting, assistive listening devices or other reasonable accommodation, please request this in advance of the meeting by contacting the person listed in the section titled For Further Information Contact. All reasonable accommodations requests are managed on a case-by-case basis.

Dated: January 23, 2014.
Carlos Rodriguez-Franco,
Associate Deputy Chief, for Research and Development.

[FR Doc. 2014-01760 Filed 1-29-14; 8:45 am]

BILLING CODE 3411-15-P